FEDERAL COMMUNICATIONS COMMISSION

47 CFR Parts 0 and 97

[WT Docket No. 04-140; FCC 04-79]

Amendment of Part 97 of the Commission's Rules Governing the Amateur Radio Services

AGENCY: Federal Communications Commission.

ACTION: Final rule.

SUMMARY: This document makes minor amendments to various rule sections to clarify or eliminate duplicative language, or conform them with other rule sections. This action will allow current Amateur Radio Service licensees to contribute more to the advancement of the radio art, reduce the administrative costs that the Commission incurs in regulating this service, streamline our licensing processes, and promote efficient use of spectrum allocated to the Amateur Radio Service.

DATES: Effective June 4, 2004.

FOR FURTHER INFORMATION CONTACT: William T. Cross, William.Cross@fcc.gov, Public Safety and Critical Infrastructure Division, Wireless Telecommunications Bureau, (202) 418-0680, or TTY (202) 418-7233.

SUPPLEMENTARY INFORMATION: This is a summary of the Commission's Order, WT Docket No. 04-140, FCC 04-79, adopted March 31, 2004, and released April 15, 2004. The full text of this document is available for inspection and copying during normal business hours at the FCC Reference Information Center, Portals II, 445 12th Street, SW., Room CY-A257, Washington, DC 20554. This document may also be purchased from the Commission's duplicating contractor, Qualex International, Portals II, 445 12th Street SW., Room CY-B402, Washington, DC 20554, telephone (202) 863-2893, facsimile (202) 863-2898, or via e-mail qualexint@aol.com. The full text may also be downloaded at http://www.fcc.gov. Alternative formats are available to persons with disabilities by contacting Brian Millin at (202) 418-7426, or TTY (202) 418-7365, or at brian.millin@fcc.gov.

1. In the Notice of Proposed Rulemaking and Order (NPRM) the Commission proposed to revise operating privileges for amateur radio service licensees as well as to eliminate obsolete and duplicative rules in the Amateur Radio Service. Additionally, on its own motion, the Commission adopted changes to its part 0 and 97 rules to clarify or eliminate duplicative language, or conform them with other rule sections.

I. Regulatory Matters

A. Paperwork Reduction Act

2. The Order does not contain any new or modified information collection.

3. The Regulatory Flexibility Act (RFA) requires that an agency prepare a regulatory flexibility analysis for notice and comment rulemaking proceedings, unless the agency certifies that “the rule will not, if promulgated, have a significant economic impact on a substantial number of small entities.” 5 U.S.C. 605(b). In the NPRM and Order, the Commission certified that the proposed rule amendments, if promulgated, would not have a significant economic impact on a substantial number of small business entities, as defined in section 601(3) of the RFA because the rule amendments do not apply to small business entities. Rather, these rules apply to individuals who are interested in radio technique solely with a personal aim and without pecuniary interest.

II. Ordering Clauses

4. Parts 0 and 97 of the Commission's rules is amended as specified in rule changes effective June 1, 2004.

5. The Commission's Consumer and Governmental Affairs Bureau, Reference Information Center, shall send a copy of this Order, including the Initial Regulatory Flexibility Certification, to the Chief Counsel for Advocacy of the Small Business Administration.

List of Subjects

47 CFR Part 0

Radio.

47 CFR Part 97

Radio, Volunteers.

Federal Communications Commission.
Marlene H. Dortch,
Secretary.

Rule Changes

For the reasons discussed in the preamble, the Federal Communications Commission amends 47 CFR parts 0 and 97 as follows:

PART 0—COMMISSION ORGANIZATION

1. The authority citation for part 0 continues to read as follows:

Authority: Sec. 5, 48 Stat. 1068, as amended; 47 U.S.C. 155, 225, unless otherwise noted.

2. Section 0.131 is amended by revising paragraph (n) to read as follows:

§ 0.131 Functions of the Bureau.

* * * * *

(n) Administers the Commission's amateur radio programs (part 97 of this chapter) and the issuing of maritime mobile service identities (MMSIs).

* * * * *

PART 97—AMATEUR RADIO SERVICE

3. The authority citation for part 97 continues to read as follows:

Authority: 48 Stat. 1066, 1082, as amended; 47 U.S.C. 154, 303. Interpret or apply 48 Stat. 1064-1068, 1081-1105, as amended; 47 U.S.C. 151-155, 301-609, unless otherwise noted.

4. Section 97.3 is amended by revising paragraph (a)(1) and by removing and reserving paragraph (a)(17) to read as follows:

§ 97.3 Definitions.

(a) * * *

(1) Amateur operator. A person named in an amateur operator/primary license station grant on the ULS consolidated licensee database to be the control operator of an amateur station.

* * * * *

5. Section 97.109 is amended by revising paragraph (d) and removing paragraph (e) to read as follows:

§ 97.109 Station control.

* * * * *

(d) When a station is being automatically controlled, the control operator need not be at the control point. Only stations specifically designated elsewhere in this part may be automatically controlled. Automatic control must cease upon notification by a District Director that the station is transmitting improperly or causing harmful interference to other stations. Automatic control must not be resumed without prior approval of the District Director.

* * * * *

§ 97.203(h) [Redesignated]

6. Section 97.203(h) is redesignated as Section 97.205(h).

7. Section 97.307 is amended by revising paragraph (d) to read as follows:

§ 97.307 Emission standards.

* * * * *

(d) For transmitters installed after January 1, 2003, the mean power of any spurious emission from a station transmitter or external RF power amplifier transmitting on a frequency below 30 MHz must be at least 43 dB below the mean power of the fundamental emission. For transmitters installed on or before January 1, 2003, the mean power of any spurious emission from a station transmitter or external RF power amplifier transmitting on a frequency below 30 MHz must not exceed 50 mW and must be at least 40 dB below the mean power of the fundamental emission. For a transmitter of mean power less than 5 W installed on or before January 1, 2003, the attenuation must be at least 30 dB. A transmitter built before April 15, 1977, or first marketed before January 1, 1978, is exempt from this requirement.

* * * * *

8. Section 97.505 is amended by revising paragraph (a)(9) to read as follows:

§ 97.505 Element credit.

(a) * * *

(9) An expired FCC-issued Technician Class operator license document granted before February 14, 1991: Element 1.

* * * * *

9. Section 97.507 is amended by revising paragraph (a)(2) to read as follows:

§ 97.507 Preparing an examination.

(a) * * *

(2) Elements 1 and 2: Advanced or General Class operators.

* * * * *

[FR Doc. 04-10203 Filed 5-4-04; 8:45 am]

BILLING CODE 6712-01-P